DEPARTMENT OF ENERGY

Federal Energy Regulatory Commission

Combined Notice of Filings

Take notice that the Commission has received the following Natural Gas Pipeline Rate and Refund Report filings:

Filings Instituting Proceedings

Docket Numbers: RP12-538-000.

Applicants: CenterPoint Energy Gas Transmission Company, LLC.

Description: CEGT LLC—Revenue Crediting—May 2012 to be effective 5/1/2012.

Filed Date: 3/29/12.

Accession Number: 20120329-5108.

Comments Due: 5 p.m. ET 4/10/12.

Docket Numbers: RP12-539-000.

Applicants: Elba Express Company, L.L.C.

Description: 2012 Annual Interruptible Revenue Crediting Report of Elba Express Company, L.L.C.

Filed Date: 3/29/12.

Accession Number: 20120329-5116.

Comments Due: 5 p.m. ET 4/10/12.

Docket Numbers: RP12-540-000.

Applicants: Gulf South Pipeline Company, LP.

Description: HK 37731 to Texla 39715 Capacity Release Negotiated Rate Agreement filing to be effective 4/1/2012.

Filed Date: 3/29/12.

Accession Number: 20120329-5135.

Comments Due: 5 p.m. ET 4/10/12.

Docket Numbers: RP12-541-000.

Applicants: Gulf South Pipeline Company, LP.

Description: HK 37731 to Sequent 39725 Capacity Release Negotiated Rate Agreement filing to be effective 4/1/2012.

Filed Date: 3/29/12.

Accession Number: 20120329-5138.

Comments Due: 5 p.m. ET 4/10/12.

Docket Numbers: RP12-542-000.

Applicants: Gulf South Pipeline Company, LP.

Description: Capacity Release Negotiated Rate HK 37731 to Spark 39714 to be effective 4/1/2012.

Filed Date: 3/29/12.

Accession Number: 20120329-5139.

Comments Due: 5 p.m. ET 4/10/12.

Docket Numbers: RP12-543-000.

Applicants: Gulf South Pipeline Company, LP.

Description: ONEOK 34951 to BG 39727 Capacity Release Negotiated Rate Agreement filing to be effective 4/1/2012.

Filed Date: 3/29/12.

Accession Number: 20120329-5142.

Comments Due: 5 p.m. ET 4/10/12.

Docket Numbers: RP12-544-000.

Applicants: Gulf South Pipeline Company, LP.

Description: Encana 37663-4 Amendment to Negotiated Rate Agreement filing to be effective 4/1/2012.

Filed Date: 3/29/12.

Accession Number: 20120329-5146.

Comments Due: 5 p.m. ET 4/10/12.

Docket Numbers: RP12-545-000.

Applicants: Gulf South Pipeline Company, LP.

Description: HK 37733 to Texla 39747 Capacity Release Negotiated Rate Agreement filing to be effective 4/1/2012.

Filed Date: 3/29/12.

Accession Number: 20120329-5155.

Comments Due: 5 p.m. ET 4/10/12.

Docket Numbers: RP12-546-000.

Applicants: Gulf South Pipeline Company, LP.

Description: Chesapeake 34683 to Louis Dreyfus 39749 Negotiated Rate and Capacity Release Agreement Filing to be effective 4/1/2012.

Filed Date: 3/29/12.

Accession Number: 20120329-5157.

Comments Due: 5 p.m. ET 4/10/12.

Docket Numbers: RP12-547-000.

Applicants: Gulf South Pipeline Company, LP.

Description: ONEOK 34951 to BG Energy 39751 Capacity Release Negotiated Rate Agreement filing to be effective 4/1/2012.

Filed Date: 3/29/12.

Accession Number: 20120329-5158.

Comments Due: 5 p.m. ET 4/10/12.

Docket Numbers: RP12-548-000.

Applicants: Gulf Crossing Pipeline Company LLC.

Description: Antero 2 to Tenaska 452 Capacity Release Negotiated Rate Agreement Filing to be effective 4/1/2012.

Filed Date: 3/29/12.

Accession Number: 20120329-5159.

Comments Due: 5 p.m. ET 4/10/12.

Docket Numbers: RP12-549-000.

Applicants: Natural Gas Pipeline Company of America, LLC.

Description: MidAmerican Negotiated Rate to be effective 4/1/2012.

Filed Date: 3/29/12.

Accession Number: 20120329-5187.

Comments Due: 5 p.m. ET 4/10/12.

Docket Numbers: RP12-550-000.

Applicants: Ruby Pipeline, LLC.

Description: Headstation Pooling Service to be effective 5/1/2012.

Filed Date: 3/29/12.

Accession Number: 20120329-5190.

Comments Due: 5 p.m. ET 4/10/12.

Docket Numbers: RP12-551-000.

Applicants: ANR Pipeline Company.

Description: DTCA 2012 to be effective 5/1/2012.

Filed Date: 3/30/12.

Accession Number: 20120330-5048.

Comments Due: 5 p.m. ET 4/11/12.

Docket Numbers: RP12-552-000.

Applicants: Northern Border Pipeline Company.

Description: CSU Fuel Filing 2012 to be effective 5/1/2012.

Filed Date: 3/30/12.

Accession Number: 20120330-5049.

Comments Due: 5 p.m. ET 4/11/12.

Docket Numbers: RP12-553-000.

Applicants: Northern Border Pipeline Company.

Description: BP Canada Energy Negotiated Rate Agreements to be effective 4/1/2012.

Filed Date: 3/30/12.

Accession Number: 20120330-5057.

Comments Due: 5 p.m. ET 4/11/12.

Docket Numbers: RP12-554-000.

Applicants: Southern Natural Gas Company, LLC.

Description: Clean-up Filing—2012 to be effective 5/1/2012.

Filed Date: 3/30/12.

Accession Number: 20120330-5063.

Comments Due: 5 p.m. ET 4/11/12.

Docket Numbers: RP12-555-000.

Applicants: Northern Natural Gas Company.

Description: 20120330 Negotiated Rate to be effective 4/1/2012.

Filed Date: 3/30/12.

Accession Number: 20120330-5079.

Comments Due: 5 p.m. ET 4/11/12.

Docket Numbers: RP12-556-000.

Applicants: Transcontinental Gas Pipe Line Company, LLC.

Description: submit its filing per 154.204: Negotiated Rates—AGL, PUH, VNG to be effective 4/1/2012.

Filed Date: 3/30/12.

Accession Number: 20120330-5088.

Comments Due: 5 p.m. ET 4/11/12.

Docket Numbers: RP12-557-000.

Applicants: Gulf Crossing Pipeline Company, LLC.

Description: Gulf Crossing Pipeline Company LLC submits tariff filing per 154.204: Creditworthiness to be effective 5/1/2012.

Filed Date: 3/30/12.

Accession Number: 20120330-5116.

Comments Due: 5 p.m. ET 4/11/12.

Docket Numbers: RP12-558-000.

Applicants: CenterPoint Energy Gas Transmission Company, LLC.

Description: submits tariff filing per 154.204: CEGT, LLC—April 2012 Negotiated Rate Filing to be effective 4/1/2012.

Filed Date: 3/30/12.

Accession Number: 20120330-5118.

Comments Due: 5 p.m. ET 4/11/12.

Docket Numbers: RP12-559-000.

Applicants: Gulf South Pipeline Company, LP.

Description: Gulf South Pipeline Company, LP submits tariff filing per 154.204: Amendments to Negotiated Rate Agreements—CenterPoint 35483, 35484, 35485 to be effective 4/1/2012.

Filed Date: 3/30/12.

Accession Number: 20120330-5129.

Comments Due: 5 p.m. ET 4/11/12.

Docket Numbers: RP12-560-000.

Applicants: Gulf South Pipeline Company, LP.

Description: Gulf South Pipeline Company, LP submits tariff filing per 154.204: QEP 36601-9 Amendment to Negotiated Rate Agreement filing to be effective 4/1/2012.

Filed Date: 03/30/2012.

Accession Number: 20120330-5138.

Comment Date: 5 p.m. Eastern Time on Wednesday, April 11, 2012.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP08-350-006.

Applicants: Southern Star Central Gas Pipeline, Inc.

Description: Southern Star Central Gas Pipeline, Inc. Annual Report—Non-HCA Pipeline and Storage Lateral Integrity Expenses.

Filed Date: 3/29/12.

Accession Number: 20120329-5117.

Comments Due: 5 p.m. ET 4/10/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 30, 2012.
Nathaniel J. Davis, Sr.,
Deputy Secretary

[FR Doc. 2012-8306 Filed 4-5-12; 8:45 am]

BILLING CODE 6717-01-P